DEPARTMENT OF ENERGY

Agency Information Collection Extension

AGENCY: U.S. Department of Energy.

ACTION: Notice and request for comments.

SUMMARY: The Department of Energy (DOE), pursuant to the Paperwork Reduction Act of 1995, intends to extend for three years, an information collection package with the Office of Management and Budget (OMB) concerning information “Technology Partnerships Ombudsmen Reporting Requirements.” The Technology Transfer Ombudsman appointed at each DOE National Laboratory must submit reports to DOE on the number and nature of complaints and disputes raised by outside organizations regarding the policies and actions of each laboratory with respect to technology transfer partnerships, including Cooperative Research and Development Agreements, patents, and technology licensing. The reports must also include an assessment of the ombudsman's resolution to the disputes. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

DATES: Comments regarding this proposed information collection must be received on or before September 2, 2008. If you anticipate difficulty in submitting comments within that period, contact the person listed below as soon as possible.

ADDRESSES: Written comments may be sent to: Kathleen M. Binder, GC-12, Director, Office of Dispute Resolution, U.S. Department of Energy, 1000 Independence Avenue, SW., Washington, DC 20585; or by fax at 202-586-7400 or by e-mail at kathleen.binder@hq.doe.gov.

FOR FURTHER INFORMATION CONTACT: Requests for additional information or copies of the information collection instrument and instructions should be directed to Kathleen M. Binder at the address listed in ADDRESSES.

SUPPLEMENTARY INFORMATION: This package contains: (1) OMB No. 1910-5118; (2) Package Title: “Technology Partnerships Ombudsmen Reporting Requirements”; (3) Type of Review: Renewal; (4) Purpose: The information collected will be used to determine whether the Technology Partnerships Ombudsmen are properly helping to resolve complaints from outside organizations regarding laboratory policies and actions with respect to technology partnerships; (5) Respondents: 22; (6) Estimated Number of Burden Hours: 50.

Statutory Authority: Public Law 106-404, Technology Transfer Commercialization Act of 2000.

Issued in Washington, DC on June 26, 2008.
Kathleen M. Binder,
Director, Office of Dispute Resolution, Office of General Counsel.

[FR Doc. E8-15138 Filed 7-2-08; 8:45 am]

BILLING CODE 6450-01-P